DEPARTMENT OF HEALTH AND HUMAN SERVICES

[Docket No. CDC-2016-0068]

42 CFR Parts 70 and 71

RIN 0920-AA63

Control of Communicable Diseases; Delay of Effective Date

AGENCY: Centers for Disease Control and Prevention (CDC), Department of Health and Human Services (HHS).

ACTION: Final rule; delay of effective date.

SUMMARY: The Centers for Disease Control and Prevention (CDC) in the Department of Health and Human Services (HHS) announces a change in the effective date of the final rule titled “Control of Communicable Diseases” that was published on January 19, 2017. This action is undertaken in accordance with the memorandum of January 20, 2017 from the Assistant to the President and Chief of Staff entitled “Regulatory Freeze Pending Review.”

DATES: The effective date of the final rule amending 42 CFR parts 70 and 71 published January 19, 2017 (82 FR 6890) is delayed to March 21, 2017.

FOR FURTHER INFORMATION CONTACT: Martin S. Cetron, M.D., Director, Division of Global Migration and Quarantine, Centers for Disease Control and Prevention, 1600 Clifton Road NE., MS E-03, Atlanta, Georgia, 30329. Phone: (404) 498-1600. Email: dgmqpolicyoffice@cdc.gov.

SUPPLEMENTARY INFORMATION: On January 19, 2017, HHS/CDC published a final rule titled “Control of Communicable Diseases” (82 FR 6890) with an effective date of February 21, 2017. With this document, HHS/CDC announces a new effective date for this final rule of March 21, 2017.

HHS/CDC bases this action on the Presidential directive expressed in the memorandum of January 20, 2017 from the Assistant to the President and Chief of Staff entitled “Regulatory Freeze Pending Review.” This memorandum directed the heads of Executive Departments and Agencies to temporarily postpone for sixty days from the date of the memorandum the effective dates of all regulations that had been published in the Federal Register but had not yet taken effect.

Dated: February 9, 2017.
Norris Cochran,
Acting Secretary, Department of Health and Human Services.

[FR Doc. 2017-03042 Filed 2-14-17; 8:45 am]

BILLING CODE 4163-18-P